DEPARTMENT OF COMMERCE

Census Bureau

Bureau of Economic Analysis

Agency Information Collection Activities; Submission to the Office of Management and Budget (OMB) for Review and Approval; Comment Request; Data Security Requirements for Accessing Confidential Data

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 10, 2022, during a 60-day comment period. This notice allows for an additional 30 days for public comments.

Agency: U.S. Census Bureau and U.S. Bureau of Economic Analysis, Commerce.

Title: Data Security Requirements for Accessing Confidential Data.

OMB Control Number: 0607-XXXX.

Form Number(s):

• Form BC-1759, Special Sworn Status—U.S. Census Bureau

• Fair Credit Release—U.S. Census Bureau

• Selective Service Form—U.S. Census Bureau

• Foreign National Residence History—U.S. Census Bureau

• Initial Information Sheet—U.S. Census Bureau

• Researcher Semi-Annual Contact Information and Travel History Update—U.S. Census Bureau

• Form I-9, Employment Eligibility Verification (OMB No. 1615-0047)—U.S. Census Bureau

• OF-306, Declaration for Federal Employment (OMB No. 3206-0182)—U.S. Census Bureau

• SF85P, Questionnaire for Public Trust Positions (OMB No. 3206-0258)—U.S. Census Bureau

• Sworn Statement (Affirmation) of Nondisclosure for Consultant to BEA—U.S. Bureau of Economic Analysis

• Annual Census Bureau Data Handling University Training, including:

○ Data Stewardship & Controlled Unclassified Information (CUI)

○ Title 13 Awareness Course

○ Title 26 Awareness Training

○ Cybersecurity Awareness & Protection Course

• Annual Census Bureau Records Management Training

• Annual Bureau of Economic Analysis Title 26 Awareness Training

• Annual Bureau of Economic Analysis Data Stewardship and IT Security Training

• Annual Bureau of Economic Analysis Records Management 101 Training

• Annual Bureau of Economic Analysis Active Shooter Training

• Annual Bureau of Economic Analysis Employees Safety Training

Type of Request: Regular submission, new information collection request.

Number of Respondents: 640.

Average Hours per Response: 6 hours for the U.S. Census Bureau and 3 hours for the U.S. Bureau of Economic Analysis. This estimate includes completion of paperwork and training requirements.

Burden Hours: 3,501.

Needs and Uses: Title III of the Foundations for Evidence-Based Policymaking Act of 2018 (44 U.S.C. 3583; hereafter referred to as the Evidence Act) mandates that OMB establish a Standard Application Process (SAP) for requesting access to certain confidential data assets. The SAP is to be a process through which agencies, the Congressional Budget Office, State, local, and Tribal governments, researchers, and other individuals, as appropriate, may apply to access certain confidential data assets held by a Federal statistical agency or unit for the purposes of developing evidence.

The SAP Portal is to be a single web-based common application designed to collect information from individuals requesting access to confidential data assets from federal statistical agencies and units. When an application for confidential data is approved through the SAP Portal, the U.S. Census Bureau and the U.S. Bureau of Economic Analysis will collect information to fulfill their statutory confidentiality and data security requirements. This is a required step before providing the individual with access to restricted use microdata for the purpose of evidence building. The U.S. Census Bureau's and the U.S. Bureau of Economic Analysis's data security forms and other paperwork, along with the corresponding security protocols, allow the U.S. Census Bureau and the U.S. Bureau of Economic Analysis to maintain controls on confidentiality, as required by the law governing the data-owning agency. The U.S. Census Bureau's and the U.S. Bureau of Economic Analysis's collection of data security information will occur outside of the SAP Portal.

In the instance of a positive determination for an application requesting access to a U.S. Census Bureau and/or U.S. Bureau of Economic Analysis-owned confidential data asset through the SAP process, the U.S. Census Bureau and/or the U.S. Bureau of Economic Analysis will contact the applicant(s) to initiate the process of collecting information to fulfill their statutory confidentiality and data security requirements. These forms are necessary for the U.S. Census Bureau and/or the U.S. Bureau of Economic Analysis to place the applicant(s) to protect the confidentiality of the data they collect.

Affected Public: Members of the public who are seeking a security clearance with either the U.S. Census Bureau or the U.S. Bureau of Economic Analysis in order to obtain access to confidential data.

Frequency: Annual.

Respondent's Obligation: Mandatory.

Legal Authority: 13 U.S.C. 9 and 23(c) for Census; 22 U.S.C. 3104 and 15 CFR part 80 for BEA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-13044 Filed 6-16-23; 8:45 am]

BILLING CODE 3510-07-P